DEPARTMENT OF TRANSPORTATION

Federal Aviation Administration

14 CFR Part 71

[Docket No. FAA-2019-0808; Airspace Docket No. 19-ASW-12]

RIN 2120-AA66

Amendment of Class D Airspace and Amendment and Revocation of the Class E Airspace; Multiple Texas Towns

AGENCY: Federal Aviation Administration (FAA), DOT.

ACTION: Final rule.

SUMMARY: This action affects several airports in Texas by amending Class D airspace and Class E surface airspace; revoking Class E airspace designated as an extension to a Class E surface area; amending Class E airspace extending upward from 700 feet above the surface; and removing Class E airspace extending upward from 700 feet above the surface. This action is due to airspace reviews caused by the decommissioning of the Hobby and Temple VHF omnidirectional range (VOR) navigation aids as part of the VOR Minimum Operational Network (MON) Program. The geographic coordinates and names of several airports would also be updated to coincide with the FAA's aeronautical database.

DATES: Effective 0901 UTC, September 10, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace at Conroe-North Houston Regional Airport, Conroe, TX; Scholes International Airport at Galveston, Galveston, TX; and Sugar Land Regional Airport, Houston, TX; amends the Class E surface airspace at Conroe-North Houston Regional Airport, Scholes International Airport at Galveston, and Sugar Land Regional Airport; revokes the Class E airspace designated as an extension to a Class E surface area at Draughon-Miller Central Texas Regional Airport, Temple, TX; amends the Class E airspace extending upward from 700 feet above the surface at Chambers County Airport, Anahuac, TX; Scholes International Airport at Galveston; Conroe-North Houston Regional Airport; Texas Gulf Coast Regional Airport, Angleton/Lake Jackson, TX; and Draughon-Miller Central Texas Regional Airport; and removes the Class E airspace extending upward from 700 feet above the surface at Wood No. 2 Airport, Brookshire, TX, and Covey Trails Airport, Fulshear, TX, which are contained within the Houston, TX, airspace legal description, to support instrument flight rule operations at these airports.

History

The FAA published a notice of proposed rulemaking in the Federal Register (84 FR 67886; December 12, 2019) for Docket No. FAA-2019-0808 to amend Class D airspace at Conroe-North Houston Regional Airport, Conroe, TX; Scholes International Airport at Galveston, Galveston, TX; and Sugar Land Regional Airport, Houston, TX; amend Class E surface airspace at Conroe-North Houston Regional Airport, Scholes International Airport at Galveston, and Sugar Land Regional Airport; revoke the Class E airspace designated as an extension to a Class E surface area at Draughon-Miller Central Texas Regional Airport, Temple, TX; amend the Class E airspace extending upward from 700 feet above the surface at Chambers County Airport, Anahuac, TX; Scholes International Airport at Galveston; Conroe-North Houston Regional Airport; Texas Gulf Coast Regional Airport, Angleton/Lake Jackson, TX; and Draughon-Miller Central Texas Regional Airport; and remove Class E airspace extending upward from 700 feet above the surface at Wood No. 2 Airport, Brookshire, TX, and Covey Trails Airport, Fulshear, TX, which are contained within the Houston, TX, airspace legal description. Interested parties were invited to participate in this rulemaking effort by submitting written comments on the proposal to the FAA. No comments were received.

Class D and E airspace designations are published in paragraph 5000, 6002, 6004 and 6005, respectively, of FAA Order 7400.11D, dated August 8, 2019, and effective September 15, 2019, which is incorporated by reference in 14 CFR 71.1. The Class D and E airspace designations listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71:

Amends the Class D airspace to within a 4.8-mile radius (increased from a 4.1-mile radius) of Conroe-North Houston Regional Airport, Conroe, TX; removes the Navasota VORTAC and Humble VORTAC and the associated exclusion area from the airspace legal description; amends the exclusion area to “. . . excluding that airspace from lat. 30°25′24″ N, long. 95°22′11″ W to lat. 30°23′32″ N, long. 95°22′51″ W to lat. 30°23′12″ N, long. 95°19′51″ W”; updates the name and geographic coordinates of Conroe-North Houston Regional Airport (previously Lone Star Executive Airport) to coincide with the FAA's aeronautical database; and replaces the outdated term “Airport/Facility Directory” with “Chart Supplement”;

Amends the Class D airspace at Scholes International Airport at Galveston (previously Scholes INTL at Galveston), Galveston, TX, by updating the name of the airport to coincide with the FAA's aeronautical database; corrects the header of the airspace legal description from “Galveston, Galveston, TX” to “Galveston, TX”; and replaces the outdated term “Airport/Facility Directory” with “Chart Supplement”;

Amends the Class D airspace to within a 4.2-mile radius (decreased from a 5.8-mile radius) of Sugar Land Regional Airport, Houston, TX; corrects the header of the airspace legal description from “Houston Sugar Land, TX” to “Houston, TX” to coincide with the FAA's aeronautical database; removes the city associated with the airport from the airspace legal description to comply with FAA Order 7400.2M, Procedures for Handling Airspace Matters; and removes “(previously called Airport/Facility Directory)” as it is no longer needed;

Amends the Class E surface airspace to within a 4.8-mile radius (increased from a 4.1-mile radius) of Conroe-North Houston Regional Airport, Conroe, TX; removes the Navasota VORTAC and Humble VORTAC and the associated exclusion area from the airspace legal description; amends the exclusion area to “. . . excluding that airspace from lat. 30°25′24″ N, long. 95°22′11″ W to lat. 30°23′32″ N, long. 95°22′51″ W to lat. 30°23′12″ N, long. 95°19′51″ W”; updates the name and geographic coordinates of Conroe-North Houston Regional Airport (previously Lone Star Executive Airport) to coincide with the FAA's aeronautical database; and replaces the outdated term “Airport/Facility Directory” with “Chart Supplement”;

Amends the Class E surface airspace at Scholes International Airport at Galveston (previously Scholes INTL at Galveston), Galveston, TX, by updating the name of the airport to coincide with the FAA's aeronautical database; and replaces the outdated term “Airport/Facility Directory” with “Chart Supplement”;

Amends the Class E surface airspace to within a 4.2-mile radius (decreased from a 5.8-mile radius) of Sugar Land Regional Airport, Houston, TX; corrects the header of the airspace legal description from “Houston Sugar Land, TX” to “Houston, TX” to coincide with the FAA's aeronautical database; removes the city associated with the airport from the airspace legal description to comply with FAA Order 7400.2M; and removes “(previously called Airport/Facility Directory)” as it is no longer needed;

Amends the Class E surface airspace at Draughon-Miller Central Texas Regional Airport, Temple, TX, by removing the city associated with the airport in the airspace legal description to comply with FAA Order 7400.2M;

Removes the Class E airspace area designated as an extension to a Class E surface area at Draughon-Miller Central Texas Regional Airport, Temple, TX, as it is no longer needed;

Amends the Class E airspace area extending upward from 700 feet above the surface to within a 6.1-mile radius (decreased from a 6.3-mile radius) at Chambers County Airport, Anahuac, TX; removes the Anahuac RBN and the associated extension from the airspace legal description; and updates the geographic coordinates of the airport to coincide with the FAA's aeronautical database;

Amends the Class E airspace area extending upward from 700 feet above the surface by removing the Chambers County Airport, Anahuac, TX, and the associated exclusion area from the Houston, TX, airspace legal description as it is no longer needed; to within a 6.6-mile radius (decreased from a 7.6-mile radius) of Scholes International Airport at Galveston, Galveston, TX, which is contained within the Houston, TX, airspace legal description; removes the city associated with the Scholes International Airport from the airspace legal description to comply with FAA Order 7400.2M; removes the Woods No. 2 Airport, Brookshire, TX, and Covey Trails Airport, Fulshear, TX, which are contained within the Houston, TX, airspace legal description from the Houston, TX, airspace legal description, and revokes the associated Class E airspace area extending upward from 700 feet above the surface at these airports as the instrument procedures at these airports have been cancelled and the airspace is no longer required; to within a 7.3-mile radius (increased from a 6.6-mile radius) of Conroe-North Houston Regional Airport, Conroe, TX, which is contained within the Houston, TX, airspace legal description; and amends the airspace boundary from “. . . thence from lat. 29°17′04″ N long. 95°00′13″ W . . .” to “. . . thence from lat. 29°16′48″ N, long. 94°59′06″ W . . . .”; updates the names of Scholes International Airport at Galveston (previously Scholes International at Galveston) and Conroe-North Houston Regional Airport (previously Lone Star Executive Airport) to coincide with the FAA's aeronautical database; and updates the geographic coordinates of Conroe-North Houston Regional Airport to coincide with the FAA's aeronautical database;

Amends the Class E airspace area extending upward from 700 feet above the surface to within a 6.6-mile radius (decreased from a 6.7-mile radius) of Texas Gulf Coast Regional Airport, Angleton/Lake Jackson, TX; updates the header of the airspace legal description from “Lake Jackson, TX” to “Angleton/Lake Jackson, TX” to coincide with the FAA's aeronautical database; removes the city associated with the airport from the airspace legal description to comply with FAA Order 7400.2M; and updates the name and geographic coordinates of the Texas Gulf Coast Regional Airport (previously Brazoria County Airport) to coincide with the FAA's aeronautical database;

And amends the Class E airspace area extending upward from 700 feet above the surface at Draughon-Miller Central Texas Regional Airport, Temple, TX, by removing the city associated with the airport to comply with FAA Order 7400.2M; updates the name of the Draughon-Miller Central Texas Regional: RWY 15-LOC (previously Draughon-Miller Central Texas Regional Localizer) to coincide with the FAA's aeronautical database; removes the Temple VOR and the associated extension from the airspace legal description; removes the extension southwest of the airport as it is no longer needed; and amends the extension northwest of the airport to within 4 miles either side of the 343° (previously 336°) bearing of the Draughon-Miller Central Texas Regional: RWY 15-LOC extending from the 6.7-mile radius to 14.2 miles (previously 14.4 miles) northwest of the airport.

These actions are the result of airspace reviews caused by the decommissioning of the Hobby and Temple VORs, which provided navigation information for the instrument procedures at these airports, as part of the VOR MON Program.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 5000 Class D Airspace.

* * * * *

ASW TX D Conroe, TX [Amended]

Conroe-North Houston Regional Airport, TX

(Lat. 30°21′12″ N, long. 95°24′54″ W)

That airspace extending upward from the surface to and including 2,700 feet MSL within a 4.8-mile radius of Conroe-North Houston Regional Airport, excluding that airspace from lat. 30°25′24″ N, long. 95°22′11″ W to lat. 30°23′32″ N, long. 95°22′51″ W to lat. 30°23′12″ N, long. 95°19′51″ W. This Class D airspace area is effective during the specific dates and times established in advance by a Notice to Airmen. The effective date and time will thereafter be continuously published in the Chart Supplement.

* * * * *

ASW TX D Galveston, TX [Amended]

Scholes International Airport at Galveston, TX

(Lat. 29°15′55″ N, long. 94°51′38″ W)

That airspace extending upward from the surface up to but not including 2,500 feet MSL within a 4.1-mile radius of Scholes International Airport at Galveston. This Class D airspace area is effective during the specific dates and times established in advance by a Notice to Airmen. The effective date and time will thereafter be continuously published in the Chart Supplement.

* * * * *

ASW TX D Houston, TX [Amended]

Sugar Land Regional Airport, TX

(Lat. 29°37′20″ N, long. 95°39′24″ W)

That airspace extending upward from the surface to and including 2,600 feet MSL within a 4.2-mile radius of Sugar Land Regional Airport. This Class D airspace area is effective during the specific dates and times established in advance by a Notice to Airmen. The effective date and time will thereafter be continuously published in the Chart Supplement.

Paragraph 6002 Class E Airspace Areas Designated as Surface Areas.

* * * * *

ASW TX E2 Conroe, TX [Amended]

Conroe-North Houston Regional Airport, TX

(Lat. 30°21′12″ N, long. 95°24′54″ W)

That airspace extending upward from the surface to and including 2,700 feet MSL within a 4.8-mile radius of Conroe-North Houston Regional Airport, excluding that airspace from lat. 30°25′24″ N, long. 95°22′11″ W to lat. 30°23′32″ N, long. 95°22′51″ W to lat. 30°23′12″ N, long. 95°19′51″ W. This Class E airspace area is effective during the specific dates and times established in advance by a Notice to Airmen. The effective date and time will thereafter be continuously published in the Chart Supplement.

* * * * *

ASW TX E2 Galveston, TX [Amended]

Scholes International Airport at Galveston, TX

(Lat. 29°15′55″ N, long. 94°51′38″ W)

That airspace extending upward from the surface up to but not including 2,500 feet MSL within a 4.1-mile radius of Scholes International Airport at Galveston. This Class E airspace area is effective during the specific dates and times established in advance by a Notice to Airmen. The effective date and time will thereafter be continuously published in the Chart Supplement.

* * * * *

ASW TX E2 Houston, TX [Amended]

Sugar Land Regional Airport, TX

(Lat. 29°37′20″ N, long. 95°39′24″ W)

That airspace extending upward from the surface to and including 2,600 feet MSL within a 4.2-mile radius of Sugar Land Regional Airport. This Class E airspace area is effective during the specific dates and times established in advance by a Notice to Airmen. The effective date and time will thereafter be continuously published in the Chart Supplement.

* * * * *

ASW TX E2 Temple, TX [Amended]

Draughon-Miller Central Texas Regional Airport, TX

(Lat. 31°09′07″ N, long. 97°24′28″ W)

Within a 4.2-mile radius of Draughon-Miller Central Texas Regional Airport. This Class E airspace area is effective during the specific dates and times established in advance by a Notice to Airmen. The effective date and time will thereafter be continuously published in the Chart Supplement.

Paragraph 6004 Class E Airspace Areas Designated as an Extension to a Class D or Class E Surface Area.

* * * * *

ASW TX E4 Temple, TX [Removed]

Paragraph 6005 Class E Airspace Areas Extending Upward From 700 Feet or More Above the Surface of the Earth.

* * * * *

ASW TX E5 Anahuac, TX [Amended]

Chambers County Airport, TX

(Lat. 29°46′11″ N, long. 94°39′49″ W)

That airspace extending upward from 700 feet above the surface within a 6.1-mile radius of Chambers County Airport.

* * * * *

ASW TX E5 Houston, TX [Amended]

Point of Origin

(Lat. 30°35′01″ N, long. 95°28′01″ W)

Scholes International Airport at Galveston, TX

(Lat. 29°15′55″ N, long. 94°51′38″ W)

Conroe-North Houston Regional Airport, TX

(Lat. 30°21′12″ N, long. 95°24′54″ W)

That airspace extending upward from 700 feet above the surface within an area bounded by a line beginning at the Point of Origin to lat. 29°45′00″ N, long. 94°44′01″ W; thence from lat. 29°45′00″ N, long. 94°44′01″ W to a point of tangency with the east arc of a 6.6-mile radius of Scholes International Airport at Galveston, and within a 6.6-mile radius of Scholes International Airport at Galveston; thence from lat. 29°16′48″ N, long. 94°59′06″ W; to lat. 29°30′01″ N, long. 95°54′01″ W; to lat. 30°26′01″ N, long. 95°42′01″ W; to the Point of Origin, and within a 7.3-mile radius of Conroe-North Houston Regional Airport.

* * * * *

ASW TX E5 Angleton/Lake Jackson, TX [Amended]

Texas Gulf Coast Regional Airport, TX

(Lat. 29°06′31″ N, long. 95°27′44″ W)

That airspace extending upward from 700 feet above the surface within a 6.6-mile radius of Texas Gulf Coast Regional Airport.

* * * * *

ASW TX E5 Temple, TX [Amended]

Draughon-Miller Central Texas Regional Airport, TX

(Lat. 31°09′07″ N, long. 97°24′28″ W)

Draughon-Miller Central Texas Regional: RWY 15-LOC

(Lat. 31°08′20″ N, long. 97°24′16″ W)

That airspace extending upward from 700 feet above the surface within a 6.7-mile radius of Draughon-Miller Central Texas Regional Airport, and within 4 miles either side of the 343° bearing of the Draughon-Miller Central Texas Regional: RWY 15-LOC extending from the 6.7-mile radius to 14.2 miles northwest of the airport.

Issued in Fort Worth, Texas, on May 26, 2020.
Steven T. Phillips,
Acting Manager, Operations Support Group, ATO Central Service Center.

[FR Doc. 2020-11610 Filed 6-5-20; 8:45 am]

BILLING CODE 4910-13-P